ADVISORY COUNCIL ON HISTORIC PRESERVATION

Draft Program Comment Regarding Cold War Era Unaccompanied Personnel Housing

AGENCY: Advisory Council on Historic Preservation.

ACTION: Notice of intent to issue program comment on Cold War era unaccompanied personnel housing.

SUMMARY: The Department of Defense (DoD) is formulating its plan on how to manage its inventory of Cold War (1946-1974) era unaccompanied personnel housing (UPH). In order to better meet its Federal historic preservation responsibilities in managing these properties, DoD has requested the Advisory Council on Historic Preservation (ACHP) to comment on the overall management of such properties, as opposed to submit each individual undertaking under such management to separate review. The DoD and ACHP have drafted such a comment and now seek public input on it. ACHP will take into account this public input prior to deciding whether to issue the program comment.

DATES: Submit comments on or before May 12, 2006.

ADDRESSES: Address all comments concerning this proposed program comment to Dave Berwick, Army Program Manager, Office of Federal Agency Programs, Advisory Council on Historic Preservation, 1100 Pennsylvania Avenue, NW., Suite 809, Washington, DC 20004. Fax 202-606-8672. You may submit electronic comments to dberwick@chp.gov.

FOR FURTHER INFORMATION CONTACT: Dave Berwick (202) 606-8505.

SUPPLEMENTARY INFORMATION: Section 106 of the National Historic Preservation Act requires Federal agencies to consider the effects of their undertakings on historic properties and provide the Advisory Council on Historic Preservation (ACHP) a reasonable opportunity to comment with regard to such undertakings. ACHP has issued the regulations that set forth the process through which Federal agencies comply with these duties. Those regulations are codified under 36 CFR part 800 (“Section 106 regulations”).

Under Section 800.14(e) of those regulations, agencies can request ACHP to provide a “Program Comment” on a particular category of undertakings in lieu of conducting individual reviews of each individual undertaking under such category, as set forth in 36 CFR 800.4 through 800.6. An agency can meet its Section 106 responsibilities for those undertakings by taking into account ACHP's Program Comment and by following the steps set forth in those comments.

DoD has requested such a Program Comment to cover management of its Cold War era unaccompanied personnel housing (UPH). A copy of the draft Program Comment can be found at the end of this notice. Once the public input resulting from this notice is considered, ACHP will decide whether to issue a final Program Comment to DoD.

Background on Cold War Era Unaccompanied Personnel Housing

Prior to the Civil War, the military constructed few permanent barracks. In general, permanent barracks existed at a few interior installations, coastal fortifications, and military academies. After the Civil War, as new military installations were constructed, more attention was given to the design and construction of large barrack buildings located on the edge of parade grounds. The Army began constructing two-company barracks featuring a central block flanked by two wings. Between 1866 and 1942, the Army issued standardized plans, but thousands of troops were also housed in temporary World War I mobilization barracks.

In the 1920s, poor living conditions of Army personnel led to the sale of excess property in order to improve military posts and housing. Large barracks were constructed between the 1920s and 1940s according to standardized plans. During World War II, mobilization plans were used for the large number of temporary barracks constructed to house the exponential growth of the military.

The DoD maintained a standing force of unprecedented size during the Cold War; the Army retained almost 900,000 personnel during the 1950s. Faced with the task of providing adequate housing for that many soldiers, the Army reverted to the use of standardized plans for permanent construction of UPH. As reported to Congress: “The use of standardized plans saves in design costs, saves time in initiation of work, and provides uniformity throughout the Army. Where such plans are used, the only additional design work necessary at a specific site is to adapt the structure to the local terrain and existing utilities systems.” (U.S. Congress, House. Hearings Before the Committee on Armed Services, Military and Naval Construction, 82nd Congress, 2nd Session, p. 3966)

Cold War Era sleeping facilities were predominantly provided in squad rooms with partial partitions. Dormitory style rooms were provided for the top four grades of enlisted personnel, at Service schools with substantial out-of-classroom study, and where there was shift-type work. In the 1950s, accommodating all company functions in a single building was the prime consideration in the design of barracks. Hammerhead and H-style barracks consolidated troop housing, dining facilities, and administration facilities into one building.

In the 1960s Rolling Pin barracks separated troop housing, dining facilities, and administration facilities into separate buildings. These were grouped into regimental complexes consisting of ten Rolling Pin barracks, two consolidated mess halls, two administrative buildings, chapel, post exchange, gymnasium, and dispensary.

With the suspension of the Selective Services Act in 1973, the military recognized the need to attract and retain servicemen in a voluntary military. Quality of life was identified as important to troop morale. Open dormitory design with limited privacy was now an undesirable feature. New barracks design incorporated the preferred “2+2,” consisting of two adjoining, two person rooms sharing a bathroom, throughout the 1980s.

The historic significance of Cold War UPH lies in their association with developing trends associated with the build-up of the military to support the Cold War. As the size of the military increased, and Congress placed limits on funding available for housing, the Military Departments developed standardized barracks plans to meet the needs of its unaccompanied enlisted personnel. The development of permanent housing for a large standing military of enlisted personnel reflects the response to the Cold War, and therefore the properties are potentially significant as a class of resources under Criterion A of the National Register Criteria for their association with the events, activities, and patterns of the Cold War build-up, though properties may not be individually eligible.

Currently, DoD has identified 4,524 Cold War era unaccompanied housing buildings in its inventory. Of this total, 2,863 (63%) belong to the Army, 1,051 (23%) belong to the Navy, and 605 (13%) belong to the Air Force.

The Program Comment will apply to all Cold War Era UPH buildings. These buildings were constructed to house the unprecedented number of military personnel retained during the Cold War. The Military Departments followed a number of standardized designs for construction of UPH buildings during this period. The so-called Hammerhead, Rolling-Pin, and H-style barracks were the most common designs of the period. Though these designs were originally the traditional open floor plan style, the Military Departments are upgrading all barracks to the current standards of living, including individual rooms and bathrooms. DoD anticipates that this Program Comment for UPH will allow the Military Departments to more expeditiously improve Quality of Life for Soldiers, Sailors, Airmen, and Marines.

DoD anticipates that all of its Cold War era UPH will be subject to the following categories of undertakings: ongoing operations, maintenance and repair, rehabilitation, renovation, mothballing, cessation of maintenance, new construction, demolition, deconstruction and salvage, remediation activities, and transfer, sale, lease, and closure.

This action will include all buildings and structures that were designed and built as UPH in the years 1946-1974, regardless of current use. This will be all buildings and structures with the DoD Category Group (2 digit) Code of 72, Unaccompanied Personnel Housing, in the Military Service's Real Property Inventory currently or at the time of construction.

DoD is requesting that the ACHP provide a Program Comment as a DoD-wide Section 106 compliance action related to the effects on Cold War era UPH due to the management actions listed above. Such management actions have a potential to adversely affect historic UPH.

Under the UPH Program Comment, a possible, though not likely, outcome would be the alteration or demolition of the entire group of properties built between 1946 and 1974. Because much of this housing is still being actively used by the Military Departments to house its soldiers, sailors, airmen, and marines, it is more likely that many of these buildings will remain in use and in the inventory. However, as alteration or complete demolition is an option under the Program Comment, the proposed mitigation must reflect and address that possibility. Because the significance of these properties lies primarily in their association with the history surrounding the build up of the Cold War, and not in their architectural qualities, the loss of this entire class of properties would be appropriately mitigated if the record of that association is completed before the buildings are irreversibly altered or demolished. In this case, the existing Army study, entitled Unaccompanied Personnel Housing (UPH) During the Cold War (1946-1989), comprehensively records the history of the construction and use of UPH during the Cold War era, and documents how the changing needs of the Cold War military were met through the design of Department's UPH. Consequently, because the important aspects of the relationship between these properties and the Cold War are already well documented through the history, plans, and photographs contained in the existing study, even if all the properties are demolished the effect of the loss will be appropriately mitigated.

Text of the Draft Program Comment

The following is the full text of the draft Program Comment:

Program Comment for Cold War Era Unaccompanied Personnel Housing

I. Introduction

This Program Comment provides DoD, and its Military Departments with an alternative way to comply with their responsibilities under Section 106 of the National Historic Preservation Act with regard to the effect of the following management actions on Cold War Era Unaccompanied Personnel Housing (UPH) that may be listed or eligible for listing on the National Register of Historic Places: Ongoing operations, maintenance and repair, rehabilitation, renovation, mothballing, cessation of maintenance, new construction, demolition, deconstruction and salvage, remediation activities, and transfer, sale, lease, and closure of such facilities.

In order to take into account the effects on such UPH, DoD and its Military Departments will conduct documentation in accordance with The Secretary of the Interior's Standards and Guidelines for Archeology and Historic Preservation. As each Military Department will be responsible for conducting its own mitigation actions, the following required documentation is structured by Military Department, followed by DoD-wide requirements.

II. Treatment of Properties

A. Army Mitigation

1. In 2003, the Army completed a study entitled Unaccompanied Personnel Housing (UPH) During the Cold War (1946-1989). This Historic Context study was undertaken to support the analysis of real property related to Army UPH, and to support the identification and evaluation of historic properties. In addition to providing historic information regarding the UPH program, the study also documents the property types defined in their historic context. In-depth archival research of primary and secondary sources was undertaken on the organizational history, doctrines, and policies that influenced the design and development of Army UPH during the Cold War era. Data were collected to identify significant events and policies that influenced site plans, building design, and spatial arrangement of Army UPH facilities. Archival research was also directed to compile data on the evolution and modification of these property types over time. In addition, site visits to six Army installations containing UPH facilities were completed. The installations were examined to identify and document UPH-related property types based on extant real property in the Army inventory. These case studies included a summary installation history, interview data from the cultural resource management, a review of extant real property, and a detailed architectural analysis of the design, materials, construction and modification of over 700 examples of Army UPH. The resulting report provides a comprehensive and detailed record of Army UPH, including a collection of site plans, as-built building plans, and photographs (Chapter 4). Since these standard designs have already been well documented, no additional documentation of the Army's UPH are needed as part of the overall DoD mitigation.

2. The Army, in order to take into account effects on potentially historic UPH, will amend Unaccompanied Personnel Housing (UPH) During the Cold War (1946-1989) in order to make it available to a wider audience. Due to security concerns, the distribution of the context study is limited to U.S. Government Agencies Only. The Army will remove the elements of the document that are security risks and then make the context available to the public.

B. Navy Mitigation

1. The Navy will produce a supplemental context study appendix that will be attached as an appendix to the Army's Unaccompanied Personnel Housing (UPH) During the Cold War (1946-1989). The final product will be a separately bound volume of additional information and photographs and tabular appendices that, when taken with the Army's and Air Force's context studies, provide a clear picture of the DoD's UPH. The context study appendix will:

—Explore the post-World War II changing demographics of Navy personnel and its impact on housing needs;

—Amend, as necessary, and adopt the Army's criteria for evaluating the historic significance of UPH;

—Consider the importance of major builders, developers and architects that may have been associated with design and construction of UPH; and

—Describe the inventory of UPH in detail, providing information on the various types of buildings and architectural styles and the quantity of each.

2. The Navy shall document a representative sample of the basic types of UPH. The Navy will choose three geographically dispersed installations with the greatest number and variety of such resources. The Marine Corps will choose one such example. The sample chosen shall be the best representative examples of the range of UPH types constructed during the Cold War era. This documentation would include collecting existing plans and drawings, writing a historic description in narrative or outline format, and compiling historic photographs of the buildings (similar in scope to the Army's documentation).

C. Air Force Mitigation

1. The Air Force will produce a supplemental context study appendix that will be attached to the Army's Unaccompanied Personnel Housing (UPH) During the Cold War (1946-1989). The final product will be a separately bound volume of additional information and photographs and tabular appendices that, when taken with the Army's and Navy's context studies, provide a clear picture of the Department of Defense's UPH. The context study appendix will:

—Explore the post-World War II changing demographics of Air Force personnel and its impact on housing needs;

—Amend, as necessary, and adopt the Army's criteria for evaluating the historic significance of UPH;

—Consider the importance of major builders, developers and architects that may have been associated with design and construction of UPH; and

—Describe the inventory of UPH in detail, providing information on the various types of buildings and architectural styles and the quantity of each.

The Air Force shall include documentation of representative sampling of the basic types of UPH. The Air Force will choose three geographically dispersed installations with the greatest number and variety of such resources. The sample chosen shall be the best representative examples of the range of UPH types constructed during the Cold War era. This documentation would include collecting existing plans and drawings, writing a historic description in narrative or outline format, and compiling historic photographs of the buildings, and would be similar in scope to the Army's documentation.

D. DoD-Wide Mitigation

1. Additionally, DoD recently completed a draft context study entitled The Built Environment of Cold War Era Servicewomen through the Legacy Resource Management Program. This context study examines how the needs of women service members shaped construction plans and practices of several types of facilities, including UPH. The Legacy Program recently approved funds for the completion of this document. The legacy program will make the context study available to the Military Departments and the public to enhance the consideration and documentation of the UPH story.

2. DoD and its Military Departments will make copies of all documentation available electronically, to the extent possible under security concerns, and hard copies will be placed in a permanent repository, such as the Center for Military History.

3. As a result of on-going consultations with stakeholders, each Military Department will provide a list of its UPH properties covered by the Program Comment, by State, to stakeholders. Each Military Department will be responsible for determining how to convey its information.

4. All Military Departments will encourage adaptive reuse of UPH properties when feasible, as well as the use of historic tax credits by private developers under lease arrangements. Military Departments will also incorporate adaptive reuse and preservation principles into master planning documents and activities.

These actions satisfy DoD's requirement to take into account the effects of the following management actions on Cold War Era DoD UPH that may be listed or eligible for listing on the National Register of Historic Places: ongoing operations, maintenance and repair, rehabilitation, renovation, mothballing, ceasing maintenance activities, new construction, demolition, deconstruction and salvage, remedial activities, and transfer, sale, lease, and closure.

III. Applicability

A. This Program Comment applies solely to Cold War Era DoD UPH. The Program Comment does not apply to the following properties that are listed, or eligible for listing, on the National Register of Historic Places: (1) Archaeological properties, (2) properties of traditional religious and cultural significance to federally recognized Indian tribes or Native Hawaiian organizations, and/or (3) UPH in National Register of Historic Places districts where the UPH is a contributing element of the district and the proposed undertaking has the potential to adversely affect such historic district. This exclusion does not apply to historic districts that are made up solely of UPH properties. In those cases the Program Comment would be applicable to such districts.

Since the proposed mitigation for UPH documents site plans, building designs, and the spatial arrangement of UPH, along with the events and actions that lead to the development of UPH, the important aspects of UPH, whether single buildings or districts made up entirely of UPH, will be addressed regardless of the type of undertaking that may affect this particular property type.

B. An installation with an existing Section 106 agreement document in place that addresses UPH can choose to:

(1) Continue to follow the stipulations in the existing agreement document for the remaining period of the agreement; or

(2) Seek to amend the existing agreement document to incorporate, in whole or in part, the terms of this Program Comment; or

(3) Terminate the existing agreement document, and re-initiate consultation informed by this Program Comment if necessary.

C. All future Section 106 agreement documents developed by the Military Departments related to the undertakings and properties addressed in this Program Comment shall include appropriate provisions detailing whether and how the terms of this Program Comment apply to such undertakings.

IV. Completion Schedule

On or before 60 days following approval of the Program Comment, DoD, its Military Departments and ACHP will establish a schedule for completion of the treatments outlined above.

V. Effect of the Program Comment

By following this Program Comment, DoD and its Military Departments meet their responsibilities for compliance under Section 106 regarding the effect of the following management actions on Cold War era DoD UPH that may be listed or eligible for listing on the National Register of Historic Places: Ongoing operations, maintenance and repair, rehabilitation, renovation, mothballing, ceasing maintenance activities, new construction, demolition, deconstruction and salvage, remedial activities, and transfer, sale, lease, and closure. Accordingly, DoD installations are no longer required to follow the case-by-case Section 106 review process for such effects.

As each of the Military Departments is required under this Program Comment to document their own facilities, failure of anyone Military Department to comply with the terms of the Program Comment will not adversely affect the other Departments' abilities to continue managing their properties under the Program Comment.

VI. Duration and Review of the Program Comment

This Program Comment will remain in effect until such time as Headquarters, Department of the Army determines that such comments are no longer needed and notifies ACHP in writing, or ACHP withdraws the comments in accordance with 36 CFR 800.14(e)(6). Following such withdrawal, the Army would be required to comply with the requirements of 36 CFR 800.3 through 800.7 regarding the effects under this Program Comments' scope.

Headquarters, Department of the Army and ACHP will review the implementation of the Program Comment ten years after its issuance.

Authority: 36 CFR 800.14(e).

Dated: April 7, 2006.
John M. Fowler,
Executive Director.

[FR Doc. 06-3509 Filed 4-11-06; 8:45 am]

BILLING CODE 4310-K6-M